DEPARTMENT OF AGRICULTURE

Cooperative State Research, Education, and Extension Service

Notice of Intent To Revise a Currently Approved Information Collection

AGENCY: Cooperative State Research, Education, and Extension Service, USDA.

ACTION: Notice and request for comments.

SUMMARY: In accordance with the Paperwork Reduction Act of 1995 (Pub. L. 104-13) and Office of Management and Budget (OMB) regulations at 5 CFR part 1320 (60 FR 44977, August 29, 1995), this notice announces the Cooperative State Research, Education, and Extension Service's (CSREES) intention to revise a currently approved information collection entitled, “Cooperative State Research, Education and Extension Service Application Kit for Research and Extension Programs.”

DATES: Written comments on this notice must be received by December 2, 2005 to be assured of consideration. Comments received after that date will be considered to the extent practicable.

ADDRESSES: Written comments concerning this notice may be mailed to Jason Hitchcock, E-Government Program Leader, Information Systems and Technology Management, CSREES, USDA, STOP 2216, 1400 Independence Avenue, SW., Washington, DC 20250-2216 or sent electronically to: jhitchcock@csrees.usda.gov.

FOR FURTHER INFORMATION CONTACT: To request a copy of the information collection, contact Jason Hitchcock, telephone:(202) 720-4343 or e-mail: jhitchcock@csrees.usda.gov.

CSREES Forms-2002, -2003, -2004, -2005, -2006, -2007, and -2008 are also available in PDF and MSWord formats on the CSREES Web site, under “CSREES Application Forms,” at http://www.csrees.usda.gov/funding/forms.html. CSREES Form-2010 is available under “Multicultural Scholars Application Forms,” at http://www.csrees.usda.gov/funding/forms multicultural.html.

SUPPLEMENTARY INFORMATION: Title: Cooperative State Research, Education, and Extension Service Application Kit for Research and Extension Programs.

OMB Number: 0524-0039.

Expiration Date of Current Approval: March 31, 2006.

Type of Request: Revise a currently approved information collection.

Abstract: The Cooperative State Research, Education, and Extension Service (CSREES) sponsors ongoing agricultural research, extension, and education programs under which competitive, special, and other awards of a high-priority nature are made. Before awards can be made, certain information is required from applicants as part of an overall proposal package. In addition to project summaries, descriptions of the research, extension, or education efforts; literature reviews; curricula vitae of project directors; other, relevant technical aspects of the proposed project; and supporting documentation of an administrative and budgetary nature also must be provided.

Because of the nature of the competitive, peer-reviewed process, it is important that information from applicants be available in a standardized format to ensure equitable treatment. Each year, solicitations are issued requesting proposals for various research, education, and extension areas targeted for support. Applicants submit proposals for these targeted areas following formats outlined in the proposal application guidelines accompanying each program's solicitation. These proposals are evaluated by peer review panels and awarded on a competitive basis. The forms and narrative information are mainly used for proposal evaluation and administration purposes. While some of the information is used to respond to inquiries from Congress and other government agencies, the forms are not designed to be statistical surveys or data collection instruments. Their completion by potential recipients is a normal part of the application to agencies which support basic and applied science.

In FY 2004, CSREES initiated the receipt of applications electronically through the Grants.gov (http://www.grants.gov) storefront for limited programs. CSREES expects to utilize the SF-424(R&R) Application for Federal Assistance data set and forms package (see 69 FR 53923) along with CSREES Agency-specific forms to receive applications electronically. The CSREES Agency-specific forms have been deployed; and, after additional operational testing of the forms and their instructions, CSREES will again make available the option to submit applications electronically to CSREES through Grants.gov. As CSREES transitions to use of the SF-424(R&R), there remains a need for the currently approved information collection entitled, “Cooperative State Research, Education and Extension Service Application Kit for Research and Extension Programs.”

The following information is collected in the “Cooperative State Research, Education and Extension Service Application Kit for Research and Extension Programs.”

Form CSREES-2002, Proposal Cover Page: Provides names, mailing and electronic addresses, and telephone numbers of project directors and authorized agents of applicant institutions and general information regarding the proposals.

Form CSREES-2003, Project Summary: Lists the Project Director(s) and their institution(s), project title and key words, and a project summary which allows for quick screening and assignment of proposals to peer reviewers.

Form CSREES-2004, Proposal Budget: Provides a breakdown of the purposes for which funds will be spent in the event of an award.

Form CSREES-2005, Current and Pending Support: Provides information for active and pending projects.

Form CSREES-2006, National Environmental Policy Act Exclusions: Allows identification of whether or not the proposal fits one of the exclusions listed for compliance with the National Environmental Policy Act (7 CFR Part 3407). This information is used in determining whether or not further action is needed to meet the requirements of this Act.

Form CSREES-2007, Identification of Conflicts of Interest: Lists the person(s) who are in conflict of interest with the applicant(s). This is used when selecting peer review panels to assure objective reviews.

Form CSREES-2008, Assurance Statement(s): Provides required assurances of compliance with regulations involving the protection of human subjects, animal welfare, and recombinant DNA research. This form is be used for competitive, special, and formula-funded projects.

Proposal Summary/Proposal Narrative: Provides a description of the proposed activity for which support is requested including objectives, plan of operation, and the project's significance to higher education in the food and agricultural sciences.

Form CSREES-2010, Fellowships/Scholarships Entry/Exit Form: This form will only apply to recipients of a CSREES fellowship or scholarship. The form will be used to document fellowship appointments and scholarships, pertinent demographic data on the fellows/scholars, and documentation of the progress of the fellows/scholars under the program.

The following information will be collected in the CSREES agency-specific forms when the agency transitions to use of the SF-424(R&R) forms.

Supplemental Information Form: This form is to be used by all competitive and special grant programs, and will collect the program name and program code to which the applicant is applying, additional applicant type information, Department of Health and Human Services Payment Management System account information, key words, and conflict of interest information.

NRI Proposal Type Form: This form will be used only by the National Research Initiative to collect the specific type of application being submitted.

Application Modification Form: This form will be used to indicate the forms or narrative portions of an application that an applicant has changed or corrected.

Respondents: Non-profit institutions, State, local, or Tribal governments, and a limited number of for-profit institutions and individuals.

Estimated Number of Respondents: For applicants: 7,150 each for the Proposal Summary/Proposal Narrative and Forms CSREES-2002, -2003, -2004, -2005, -2006, and -2007; 9,450 for Form CSREES-2008, Supplemental Information Form; 3,000 for the NRI Proposal Type Form; and 1,000 for the Application Modification Form. For grantees: 50 for Form CSREES-2010.

Estimated Total Annual Burden on Respondents (calculated based on a survey of grant applicants conducted by CSREES): The three year total burden on the public is estimated to be 161,029 hours. This burden assumes 156,813 in the first year and 2,108 in each of years 2 and 3 when CSREES transitions to the use of the SF-424 (R&R) forms and CSREES Agency-specific forms. The 161,029 estimated total burden over three years equates to an estimated annual average of burden to the public of 53,676 hours (161,029 ÷ 3).

The individual form burden is as follows: 21,450 hours for Form CSREES-2002, “Proposal Cover Page,” (3 hours per response); 3,575 hours for Form CSREES-2003, “Project Summary,” (.5 hours per response); 7,150 hours for Form CSREES-2004, “Proposal Budget,” (1 hour per response); 7,150 hours for Form CSREES-2005, “Current and Pending Support,” (1 hour per response); 1,788 hours for Form CSREES-2006, “National Environmental Policy Act Exclusions,” (.25 hours per response); 3,575 hours for Form CSREES-2007, “Identification of Conflicts of Interest,” (.5 hours per response); 4,725 hours for Form CSREES-2008, “Assurance Statement,” (.5 hours per response); 107,250 for the “Proposal Summary/Proposal Narrative,” (an average of 15 hours per response); and 150 hours for Form CSREES-2010, “Fellowships/Scholarships Entry/Exit Form,” (3 hours per response).

For the CSREES Agency-specific forms that will accompany the SF-424 (R&R) forms: 1,788 for the “Supplemental Information” form (.25 hours per response), 240 hours for the “NRI Application Type” form (.08 hours per response), and 80 hours for the “Application Modification” form (.08 hours per response).

Frequency of Respondents: Annually.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments also will become a matter of public record.

Done at Washington, DC, this 22nd day of September, 2005.
Colien Hefferan,
Administrator, Cooperative State Research, Education, and Extension Service.

[FR Doc. 05-19677 Filed 9-30-05; 8:45 am]

BILLING CODE 3410-22-P